DEPARTMENT OF COMMERCE

National Oceanic and Atmospheric Administration

[RTID 0648-XB989]

Atlantic Coastal Fisheries Cooperative Management Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that an Exempted Fishing Permit renewal application from the Massachusetts Division of Marine Fisheries contains all of the required information and warrants further consideration. Regulations under the Magnuson-Stevens Fishery Conservation and Management Act and the Atlantic Coastal Fisheries Cooperative Management Act require publication of this notice to provide interested parties the opportunity to comment on applications for proposed Exempted Fishing Permits.

DATES: Comments must be received on or before May 24, 2022.

ADDRESSES: You may submit written comments by any of the following methods:

• Email: NMFS.GAR.EFP@noaa.gov. Include in the subject line “Comments on MA DMF Ventless Trap EFP.” If you cannot submit a comment through this method, please contact Allison Murphy at (978) 281-9122, or email at allison.murphy@noaa.gov.

FOR FURTHER INFORMATION CONTACT: Allison Murphy, Fishery Policy Analyst, 978-281-9122, allison.murphy@noaa.gov.

SUPPLEMENTARY INFORMATION: The Massachusetts Division of Marine Fisheries (MA DMF) submitted a complete application on April 8, 2022, for an Exempted Fishing Permit (EFP) to conduct a lobster abundance survey that Federal regulations would otherwise restrict. The purpose of this study is to provide fishery-independent data on lobster growth and abundance in Massachusetts state waters of statistical areas 514 and 538. This EFP would authorize up to seven vessels to conduct larval sampling in Lobster Conservation Management Area 1 and 2. A map of this area is available at: https://www.fisheries.noaa.gov/resource/map/lobster-management-areas.

For this project, MA DMF is requesting exemptions from the following Federal lobster regulations:

1. Gear specification requirements to allow for the use of traps without escape vents (50 CFR 697.21(c)(1) for Lobster Management Area 1 and § 697.21(c)(2) for Area 2);

2. Trap limit requirements to allow for trap limits to be exceeded (§ 697.19(a) for Area 1 and § 697.19(b) for Lobster Management Area 2);

3. Trap tag requirements to allow for alternatively-tagged traps (§ 697.19(i));

4. Minimum and maximum carapace length requirements to allow sub-legal and over-sized lobsters to be landed for research purposes (§ 697.20(a)(2) and 697.20(b)(2) for Area 1, and § 697.20(a)(3) and 697.20(b)(3) for Area 2);

5. V-notch possession requirement to allow landing of female lobsters for research purposes (§ 697.20(g)(1) for Area 1 and § 697.20(g)(3) for Area 2);

6. Berried female possession requirement to allow landing of egg-bearing female lobsters for research purposes (§ 697.20(d)(1)and(3));

7. Minimum carapace width requirements to allow sub-legal Jonah crabs to be landed for research purposes (§ 697.20(h)(1)); and

8. Berried female possession requirement to allow landing of egg-bearing female Jonah crabs for research purposes (§ 697.20(h)(2)(i) and (ii)).

This survey has occurred annually since 2006 in Massachusetts state waters. The EFP would authorize three participating vessels to deploy three standard and three ventless traps per six-pot trawl. Stations would be sampled twice per month from June through October 2022. Sampling trips would occur after a soak time of approximately 3 days and at least one MA DMF scientist would be on board for the sampling trips. MA DMF personnel would not be on board when traps are baited and deployed. All gear would be Atlantic Large Whale Take Reduction Plan compliant. Survey traps will be separate from each vessel's commercial lobster traps and would be tagged as, “MADMF Research Traps.”

All catch during sampling trips would be retained temporarily to collect biological data. MA DMF staff may collect lobsters and/or Jonah crabs, including undersized, oversized, v-notched, and egg-bearing females. Collected samples would be used for research projects on growth and maturity. No catch from the experimental trips would be landed for sale.

If approved, MA DMF may request minor modifications and extensions to the EFP throughout the study. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: May 3, 2022.
Jennifer M. Wallace,
Director, Office of Sustainable Fisheries, National Marine Fisheries Service.

[FR Doc. 2022-09841 Filed 5-6-22; 8:45 am]

BILLING CODE 3510-22-P